DEPARTMENT OF LABOR

Employment and Training Administration

Investigations Regarding Certifications of Eligibility To Apply for Worker Adjustment Assistance

Petitions has been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than June 6, 2005.

Interested persons are invited to submit written comments regarding the subject matter of the investigations to the Director, Division of Trade Adjustment Assistance, at the address shown below, not later than June 6, 2005.

The petitions filed in this case are available for inspection at the office of the Director, Division of Trade Adjustment Assistance, Employment and Training Administration, U.S. Department of Labor, Room C-5311, 200 Constitution Avenue, NW., Washington, DC 20210.

Signed at Washington, DC this 18th day of May 2005.
Timothy Sullivan,
Director, Division of Trade Adjustment Assistance.

TAA Institutions
[Petitions instituted between 05/02/2005 and 05/06/2005]
Subject firm (petitioners) | Location | Contact person | Telephone | TA-W No. | Date of institution
GE Security (Comp) | Gladewater, TX | Judy Sinclair | 651-779-4849 | 57,081 | 05/02/2005
Hall China Company (The) (Comp) | East Liverpool, OH | Thomas Rodfong | 330-385-2900 | 57,082 | 05/02/2005
Avx Corporation (Comp) | El Paso, TX | Carl Thele | 843-916-7531 | 57,083 | 05/02/2005
Kichler (State) | Cleveland, OH | Tony Davidson | 800-659-9000 | 57,084 | 05/02/2005
Nobles Industries, Ltd. (State) | Hibbing, MN | Jennifer Sterbenz | 218-262-6666 | 57,085 | 05/02/2005
Makita Corp. of America (Comp) | Buford, GA | James Pearce | 770-932-2901 | 57,086 | 05/02/2005
Strandflex (Comp) | Oriskavy, NY | Pete Marciniak | 914-925-4430 | 57,087 | 05/02/2005
Cenveo (Comp) | Cambridge, MD | Rusty Hopkins | 410-228-4000 | 57,088 | 05/02/2005
Ethicon Inc. (Comp) | San Angelo, TX | Edward Lisoski | 325-482-5240 | 57,089 | 05/02/2005
Hewlett-Packard (Wkrs) | Corvallis, OR | Kate Wedmar | 541-754-3002 | 57,090 | 05/03/2005
Northern Hardwoods (State) | South Range, MI | Bill Check | 906-487-6410 | 57,091 | 05/03/2005
First Inertia Switch (Comp) | Grand Blanc, MI | Glynn Giles | 810-953-2307 | 57,092 | 05/03/2005
Amco Convertible Fabrics (Comp) | Adrian, MI | Elena Bahn | 517-266-3315 | 57,093 | 05/03/2005
Lake Eyelet Manufacturing Co. (State) | Southington, CT | Glenn Daniels | 860-628-5543 | 57,094 | 05/03/2005
EMI—G Knitting, Inc. (Comp) | Fort Payne, AL | Regina Locklear | 256-845-9801 | 57,095 | 05/03/2005
GE Infrastructure Sensing (State) | Edison, NJ | Ann Miller | 732-650-2211 | 57,096 | 05/03/2005
Stockmen's, LLC (Wkrs) | Sioux City, IA | Scott Piersma | 800-831-4851 | 57,097 | 05/03/2005
Monaco Coach Corp. (State) | Bend, OR | Doug Smith | 541-317-3638 | 57,098 | 05/03/2005
Rada, Inc. (Wkrs) | San Francisco, CA | Robin Lui | 415-608-6316 | 57,099 | 05/03/2005
D&D, Inc. (NPW) | Greensboro, NC | Maria Bartkavage | 610-882-6696 | 57,100 | 05/03/2005
Gaylord Inland (State) | Dallas, TX | Delta Nugent | 303-403-2825 | 57,101 | 05/04/2005
Sharon Young, Inc. (State) | Dallas, TX | Tom Young | 972-991-0292 | 57,102 | 05/04/2005
Automatic Technology (Comp) | Charlotte, NC | Alex Boryczewski | 704-523-2252 | 57,103 | 05/04/2005
Matsushita (Comp) | Forest Grove, OR | Julia Phares | 503-992-5105 | 57,104 | 05/04/2005
Twin City Foods, Inc. (IBT) | Lewiston, ID | Donald Heitmann | 206-515-2400 | 57,105 | 05/04/2005
Westchester Narrow Fabrics, Inc. (Comp) | Milton, PA | LaWanna Mena | 570-742-2658 | 57,106 | 05/04/2005
Seaboard Atlantic Garment, Inc. (Comp) | E. Syracuse, NY | Ed Coombs | 315-437-2000 | 57,107 | 05/04/2005
Parker Hannifin (State) | Minneapolis, MN | Shelly Simpson | 440-366-1263 | 57,108 | 05/04/2005
TRW Automotive (Wkrs) | Brighton, MI | Rick Fraser | 810-220-4619 | 57,109 | 05/04/2005
Compeq International (Comp) | Salt Lake City, UT | Ted White | 801-990-2000 | 57,110 | 05/04/2005
Dayco Products, LLC (State) | Rochester Hills, MI | Lois Wirrig | 248-299-1472 | 57,111 | 05/04/2005
Broyhill Furniture Ind. (Wkrs.) | Lenoir, NC | Marc Carpenter | 828-758-3111 | 57,112 | 05/04/2005
Vander-Bend Mfg., LLC (Comp) | Sunnyvale, CA | Holly Bagaj | 408-245-5150 | 57,113 | 05/04/2005
Selkirk, LLC (SMWIA) | Logan, OH | Charlene Berstler | 740-385-5666 | 57,114 | 05/04/2005
BASF Corporation (Wkrs) | Southfield, MI | Kristi Karr | 248-304-5451 | 57,115 | 05/04/2005
Active Quilting (Wkrs) | Plains, PA | Anthony Bartosiewicz | 570-823-3127 | 57,116 | 05/04/2005
Mayfield Industrial Maint. Comp | Mayfield, KY | Melissa Graves | 270-247-1102 | 57,117 | 05/05/2005
Lucerne Textiles, Inc. (Comp) | New York, NY | Steve Schindler | 212-563-7800 | 57,118 | 05/05/2005
Hafner, LLC (Wkrs) | Gordonsville, VA | Ingrid Dillmann | 450-372-6862 | 57,119 | 05/05/2005
MMG North America (State) | Paterson, NJ | Sandy Reese | 828-264-8861 | 57,120 | 05/05/2005
Sara Lee Branded Apparel—J.E. Morgan (C | Tamaqua, PA | Mary Jane Horvath | 570-952-2221 | 57,121 | 05/05/2005
Tower Automotive (Wkrs) | Corydon, IN | Matt Boyce | 812-738-5687 | 57,122 | 05/05/2005
Page Belting Co., Inc. (Comp) | Concord, NH | Mark Coen | 603-225-5523 | 57,123 | 05/05/2005
Jeanerette Shipping Co., Inc. (State) | Jeanerette, LA | Mary Hebert | 337-276-4238 | 57,124 | 05/06/2005
Teleflex Medical (Comp) | Research Triang, NC | Kathy Noel | 919-361-3922 | 57,125 | 05/06/2005
Tekmax, Inc. (Wkrs) | Tangent, OR | Joan Rose | 541-928-7376 | 57,126 | 05/06/2005
J.T. Shannon Lumber Co. of PA (Wkrs) | Tidioute, PA | Jennie Brown | 800-473-3765 | 57,127 | 05/06/2005
Northwest Airlines (State) | Minneapolis, MN | John Bendoraitis | 612-726-7614 | 57,128 | 05/06/2005
ADM Milling Co. (USWA) | Wellsburg, WV | Kathie Whitley | 217-451-2235 | 57,129 | 05/06/2005
Barrows Industries (State) | Norwood, MA | John Duggan | 508-824-5444 | 57,130 | 05/06/2005
Merry Maid Novelties (Comp) | Bangor, PA | Marie Vrontisis | 610-599-4104 | 57,131 | 05/06/2005
Anderson Precision (Wkrs) | Jamestown, NY | Laura Wright | 716-484-6520 | 57,132 | 05/06/2005
Sentry Manufacturing Co. (Comp) | Chickasha, OK | Dana Guy | 405-224-6784 | 57,133 | 05/06/2005
Zomax, Inc. (State) | Fremont, CA | Jan Buchholz | 510-492-5145 | 57,134 | 05/06/2005

[FR Doc. 05-10547 Filed 5-25-05; 8:45 am]

BILLING CODE 4510-30-M